OFFICE OF PERSONNEL MANAGEMENT

Privacy Act of 1974; Proposed New Routine Use; System of Records

AGENCY: U.S. Office of Personnel Management.

ACTION: Notice to establish new Privacy Act routine use.

SUMMARY: Pursuant to the provisions of the Privacy Act of 1974, 5 U.S.C. 552a, and Office of Management and Budget (OMB), Circular No. A-130, notice is given that the U.S. Office of Personnel Management proposes to modify all of its systems of records, as identified in the list below.

DATES: Please submit any comments by August 17, 2015.

ADDRESSES: The public, OMB, and the Congress are invited to submit any comments by mail or email to Mary Volz-Peacock, Information Management, Office of the Chief Information Officer, U.S. Office of Personnel Management, 1900 E Street NW., Washington, DC 20415-1000, or recordsmanagement@opm.gov.

FOR FURTHER INFORMATION CONTACT: Mary Volz-Peacock at 202-606-4942.

SUPPLEMENTARY INFORMATION: The agency has modified all of its systems of records to include a new routine use that allows disclosure to appropriate persons and entities for purposes of response and remedial efforts in the event that there has been a breach of the data contained in the systems. This routine use will facilitate an effective response to a confirmed or suspected breach by allowing for disclosure to those individuals affected by the breach, as well as to others who are in a position to assist in the agency's response efforts, either by assisting in notification to affected individuals or otherwise playing a role in preventing, minimizing, or remedying harms from the breach.

In accordance with 5 U.S.C. 552a(e)(4) and (11), the public is given a 30-day period in which to comment; and the OMB, which has oversight responsibility under the Privacy Act, requires a 40-day period in which to conclude its review of the systems. OPM has sought a waiver of the OMB 40-day review period, which the agency expects will be granted. Therefore, please submit any comments by August 17, 2015.

A description of the modification to the agency's systems of records is provided below. In accordance with 5 U.S.C. 552a(r), the agency has provided a report to OMB and the Congress.

U.S. Office of Personnel Management.
Katherine Archuleta,
Director.

U.S. Office of Personnel Management Privacy Act notices and citations follow. An asterisk (*) designates the last publication of the complete document in the Federal Register.

SORN | Title | FR No.
2013 statement | 2013 OPM Statement of Routine Uses for OPM's Internal and Central Systems of Records | 60 FR 63075.
CENTRAL-1 | Civil Service Retirement and Insurance Records | 73 FR 15013.* 64 FR 54930. 63 FR 45881. 60 FR 63075.
CENTRAL-2 | Complaints and Inquiries Records | 60 FR 63075.
CENTRAL-4 | Inspector General Investigations Case File | 60 FR 63075.
CENTRAL-5 | Intergovernmental Personnel Act Assignment Records | 64 FR 60249.* 60 FR 63075.
CENTRAL-6 | Administrative Law Judge Application Records | 60 FR 63075.
CENTRAL-7 | Litigation and Claims Records | 60 FR 63075.
CENTRAL-8 | Privacy Act/Freedom of Information Act (PA/FOIA) Case Records | 64 FR 53424.* 60 FR 63075. vol. 58, no. 68, 4/12/1993.
CENTRAL-9 | Personnel Investigations Records | 75 FR 28307.* 60 FR 63075.
CENTRAL-10 | Federal Executive Institute Program Participants Records | 64 FR 59221.* 60 FR 63075.
CENTRAL-11 | Presidential Management Fellows (PMF) Program Records | 77 FR 61791.* 74 FR 42334. 60 FR 63075.
CENTRAL-13 | Executive Personnel Records | 64 FR 60247.* 60 FR 63075.
CENTRAL-14 | Debarment or Suspension Records for Federal Employee Health Benefits | 60 FR 63075.* 60 FR 39194.
CENTRAL-15 | Health Claims Data Warehouse | 78 FR 23313.* 76 FR 35050.
CENTRAL-16 | Health Claims Disputes External Review Services | 76 FR 70512.* 75 FR 56601.
CENTRAL-18 | Federal Employees Health Benefits Program Claims Data Warehouse | 76 FR 35052.
CENTRAL-X | Federal Competency Assessment Tool | 72 FR 60396.
GOVT-1 | General Personnel Records | 77 FR 73694.* 76 FR 32997. 71 FR 35342. 65 FR 24732. 61 FR 36919.
GOVT-2 | Employee Performance File System Records | 71 FR 35342.* 65 FR 24732. 61 FR 36919.
GOVT-3 | Records of Adverse Actions, Performance Based Reductions In Grade and Removal Actions, and Terminations of Probationers | 71 FR 35342.* 65 FR 24732. 61 FR 36919.
GOVT-5 | Recruiting, Examining and Placement Records | 79 FR 16834.* 71 FR 35342. 65 FR 24732.
GOVT-6 | Personnel Research and Test Validation Records | 71 FR 35342.* 65 FR 24732. 61 FR 36919.
GOVT-7 | Applicant Race, Sex, National Origin, and Disability Status Records | 71 FR 35342.* 65 FR 24732. 61 FR 36919.
GOVT-9 | File on Position Classification Appeals, Job Grading Appeals, Retained Grade or Pay Appeals, Fair Labor Standard Act (FLSA) Claims and Complaints, Federal Civilian Employee Compensation and Leave Claims, and Settlement of Accounts for Deceased Civilian Officers and Employees | 78 FR 60331.* 71 FR 35342. 65 FR 24732. 61 FR 36919.
GOVT-10 | Employee Medical File Systems Records | 75 FR 35099.* 71 FR 35342. 65 FR 24732.
Internal-1 | Defense Mobilization Emergency Cadre Records | 64 FR 72705.* 60 FR 63075.
Internal-2 | Negotiated Grievance Procedure Records | 60 FR 63075.
Internal-3 | Security Officer Control Files | 65 FR 14635.* 60 FR 63075.
Internal-4 | Health Program Records | 64 FR 51807.* 60 FR 63075.
Internal-5 | Pay, Leave, and Travel Records | 64 FR 61949.* 60 FR 63075.
Internal-6 | Appeal and Administrative Review Records | 60 FR 63075.
Internal-7 | Complaints and Inquiries Records | 60 FR 63075.
Internal-8 | Employee Counseling Services Program Records | 60 FR 63075.
Internal-9 | Employee Locator Card Files (PDF file) | 64 FR 51807.* 60 FR 63075.
Internal-10 | Motor Vehicle Operator and Accident Report Records | 60 FR 63075.
Internal-11 | Administrative Grievance Records | 60 FR 63075.
Internal-12 | Telephone Call Detail Records | 64 FR 54934.
Internal-13 | Parking Program Records | 65 FR 540.
Internal-14 | Photo Identification and Visitor Access Control Records | 64 FR 73108.
Internal-15 | OPM Child Care Tuition Assistance Records | 65 FR 30643.
Internal-16 | Adjudications Officer Control Files | 79 FR 30202.* 66 FR 42568.
Internal-17 | Web-Enabled Voting Rights System (WEVRS) | 71 FR 38190.
Internal-18 | CyberCorps®: Scholarship For Service (SFS) | 79 FR 42064.* 74 FR 42336.
Internal-19 | Investigation Training Records | 79 FR 8515.
Internal-20 | Integrity Assurance Officer Control Files | 80 FR 2447.

* * * * *

Routine Uses of Records Maintained in the System, Including Categories of Users and the Purposes of Such Uses:

To appropriate agencies, entities, and persons when (1) OPM suspects or has confirmed that the security or confidentiality of information in the system of records has been compromised; (2) the agency has determined that as a result of the suspected or confirmed compromise there is a risk of harm to economic or property interests, identity theft or fraud, or harm to the security or integrity of this system or other systems or programs (whether maintained by OPM or another agency or entity) that rely upon the compromised information; and (3) the disclosure made to such agencies, entities, and persons is reasonably necessary to assist in connection with OPM's efforts to respond to the suspected or confirmed compromise and prevent, minimize, or remedy such harm.

[FR Doc. 2015-17583 Filed 7-15-15; 8:45 am]

BILLING CODE 6325-47-P